DEPARTMENT OF COMMERCE

International Trade Administration

[A-475-839, A-570-067, A-583-863]

Forged Steel Fittings From the People's Republic of China, Taiwan, and Italy: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on forged steel fittings from the People's Republic of China (China), Taiwan, and Italy would be likely to lead to the continuation or recurrence of dumping at the levels indicated in the “Final Results of Sunset Reviews” section of this notice.

DATES: Applicable December 1, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On September 24, 2018, Commerce published in the Federal Register the AD order on forged steel fittings from Taiwan,¹ and subsequently published AD orders for the same product from China and Italy on November 26, 2018.² On August 18, 2023, Commerce published the notice of initiation of the first sunset reviews of the Orders, pursuant to section 751(c) of the Tariff Act of 1930, as amended (the Act).³

¹ See Forged Steel Fittings from Taiwan: Antidumping Duty Order, 83 FR 48280 (Sept 24, 2018) (Taiwan FSF Order).

² See Forged Steel Fittings from Italy and the People's Republic of China: Antidumping Duty Orders, 83 FR 60397 (November 26, 2018) (collectively, the Orders).

³ See Initiation of Five-Year (Sunset) Reviews, 88 FR 50110 (August 18, 2023).

On August 16, 2023, Commerce received notices of intent to participate in these reviews from Bonney Forge Corporation (Bonney Forge), Phoenix Forge Group d/b/a Capitol Manufacturing Company, LLC (Capitol Manufacturing Company), and the United Steel, Paper and Forestry, Rubber, Manufacturing, Energy, Allied Industrial and Service Workers International Union (USW) (collectively, the domestic interested parties), within the deadline specified in 19 CFR 351.218(d)(1)(i).⁴ Bonney Forge and Capitol Manufacturing Company claimed interested party status under section 771(9)(C) of the Act as producers of the domestic like product in the United States. The USW is a certified labor union whose members include workers at the facilities in which the domestic like product is produced and is therefore an interested party within the meaning of section 771(9)(D) of the Act and 19 CFR 351.102(b)(17). On August 31, 2023, Commerce received adequate substantive responses from the domestic interested parties.⁵ We received no substantive responses from respondent interested parties.

⁴ See Bonney Forge, Capitol Manufacturing, and USW's Letters, “Notice of Intent to Participate in the Five-Year Review of the Antidumping Duty Order on Forged Steel Fittings from Italy;” “Notice of Intent to Participate in the Five-Year Review of the Antidumping Duty Order on Forged Steel Fittings from Taiwan;” and “Notice of Intent to Participate in the Five-Year Review of the Antidumping Duty Order on Forged Steel Fittings from China,” all dated August 16, 2023.

⁵ See Bonney Forge, Capitol Manufacturing, and USW's Letters, “First Five-Year (“Sunset”) Review of Antidumping Duty Order on Forged Steel Fittings from Italy: Domestic Interested Parties' Substantive Response to Notice of Initiation,” (Substantive Response—Italy); “First Five- Year (“Sunset”) Review of Antidumping Duty Order on Forged Steel Fittings from Taiwan: Domestic Interested Parties' Substantive Response to Notice of Initiation” (Substantive Response—Taiwan); and “First Five-Year (“Sunset”) Review of Antidumping Duty Order on Forged Steel Fittings from China: Domestic Interested Parties' Substantive Response to Notice of Initiation” (Substantive Response—China),” all dated August 31, 2023.

On September 20, 2023, Commerce notified the U.S. International Trade Commission that it did not receive substantive responses from any respondent interested parties.⁶ As a result, pursuant to section 751(c)(3)(B) of the Act and 19 CFR 351.218(e)(1)(ii)(C)(2), Commerce conducted expedited (120-day) sunset reviews of the Orders.

⁶ See Commerce's Letter, “Sunset Reviews for August 2023,” dated September 20, 2023.

Scope of the Orders

The products covered by these Orders are forged steel fittings from China, Taiwan, and Italy. For a full description of the scope, see the Issues and Decision Memorandum.⁷

⁷ See Memorandum, “Issues and Decision Memorandum for the Final Results of the Expedited First Sunset Reviews of the Antidumping Duty Orders on Forged Steel Fittings from the People's Republic of China, Taiwan, and Italy,” dated concurrently with, and hereby adopted by, this notice (Issues and Decision Memorandum).

Analysis of Comments Received

A complete discussion of all issues raised in these sunset reviews is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be directly accessed at http://access.trade.gov/public/FRNoticesListLayout.aspx.

⁸ See generally Issues and Decision Memorandum.

Final Results of Sunset Reviews

Pursuant to sections 751(c)(1) and 752(c)(1) and (3) of the Act, Commerce determines that revocation of the Orders would likely lead to the continuation or recurrence of dumping and that the magnitude of the dumping margins likely to prevail would be weighed-average margins up to 142.72 percent for China, up to 116.17 percent for Taiwan, and up to 80.2 percent for Italy.⁹

⁹ Id. at 9.

Administrative Protective Orders

This notice serves as the only reminder to interested parties subject to an Administrative Protective Order (APO) of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.221(c)(5)(ii).

Dated: November 27, 2023.
Abdelali Elouaradia,
Deputy Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely To Prevail

VII. Final Results of Sunset Reviews

VIII. Recommendation

[FR Doc. 2023-26470 Filed 11-30-23; 8:45 am]

BILLING CODE 3510-DS-P